DEPARTMENT OF COMMERCE

National Oceanic and Atmospheric Administration

RIN 0648-XG39

Endangered Species; File No. 1614-01

AGENCY: National Marine Fisheries Service (NMFS), National Oceanic and Atmospheric Administration (NOAA), Commerce.

ACTION: Notice; receipt of application for modification.

SUMMARY: Notice is hereby given that the NOAA Fisheries Northeast Region, Protected Resources Division [Responsible Party: Mary Colligan], One Blackburn Drive, Gloucester, MA 01930, has requested a modification to scientific research Permit No. 1614.

DATES: Written, telefaxed, or e-mail comments must be received on or before April 24, 2008.

ADDRESSES: The modification request and related documents are available for review upon written request or by appointment in the following offices:

Permits, Conservation and Education Division, Office of Protected Resources, NMFS, 1315 East-West Highway, Room 13705, Silver Spring, MD 20910; phone (301)713-2289; fax (301)427-2520;

Northeast Region, NMFS, One Blackburn Drive, Gloucester, MA 01930-2298; phone (978)281-9300; fax (978)281-9394; and

Southeast Region, NMFS, 263 13th Ave South, St. Petersburg, FL 33701; phone (727)824-5312; fax (727)824-5309.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301)427-2520, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1614-01.

FOR FURTHER INFORMATION CONTACT: Brandy Belmas or Jennifer Skidmore, (301)713-2289.

SUPPLEMENTARY INFORMATION: The subject modification to Permit No. 1614, issued on February 28, 2008 (73 FR 11873), is requested under the authority of the Endangered Species Act of 1973, as amended (16 U.S.C. 1531 et seq.), and the regulations governing the taking, importing, and exporting of endangered and threatened species (50 CFR 222-226).

Permit No. 1614 authorizes the permit holder to collect, receive and transport 100 dead shortnose sturgeon, or parts thereof, annually. In the case of an unusual mortality event, takes may be increased from 100 up to 1,000 animals with written approval from the Director, Office of Protected Resources. Researchers are also authorized the receipt and transport of up to 50 captive bred, dead shortnose sturgeon annually from any U.S. facility authorized to hold captive sturgeon. This permit authorizes the conduct of the aforementioned research over a period of five years.

The permit holder requests authorization to increase the number of dead captive bred shortnose sturgeon received annually to 350 individuals throughout the remainder of the permit. This request stems from the probable availability of a greater number of dead captive bred shortnose sturgeon than was originally anticipated. The applicant would like to obtain these sturgeon to help meet the objectives of their current research, including reviewing research procedures and developing necropsy protocols for shortnose sturgeon.

Dated: March 19, 2008.
P. Michael Payne,
Chief, Permits, Conservation and Education Division, Office of Protected Resources, National Marine Fisheries Service.

[FR Doc. E8-5937 Filed 3-24-08; 8:45 am]

BILLING CODE 3510-22-S